DEPARTMENT OF DEFENSE

Department of the Army

Availability of Non-Exclusive, Exclusive License or Partially Exclusive Licensing of U.S. Patent Application Concerning Load Securing and Release System

AGENCY: Department of the Army, DoD.

ACTION: Notice.

SUMMARY: In accordance with 37 CFR Part 404.6, announcement is made of the availability for licensing of U.S. Patent No. US 6,375,241 B1 entitled “Load Securing and Release System” issued April 23, 2002. This patent has been assigned to the United States Government as represented by the Secretary of the Army.

FOR FURTHER INFORMATION CONTACT: Mr. Robert Rosenkrans at U.S. Army Soldier and Biological Chemical Command, Kansas Street, Natick, MA 01760, Phone; (508) 233-4928-4298 or E-mail: Robert.Rosenkrans@natick.army.mil.

SUPPLEMENTARY INFORMATION: Any licenses granted shall comply with 35 U.S.C. 209 and 37 CFR part 404. The following Patent Number, Title and Issue date is provided:

Patent Number: US 6,375,241 B1.

Title: Load Securing and Release System.

Issue Date: April 23, 2002.

Luz D. Ortiz,
Army Federal Register Liaison Officer.

[FR Doc. 02-11073 Filed 5-2-02; 8:45 am]

BILLING CODE 3710-08-M